DEPARTMENT OF TRANSPORTATION

Federal Aviation Administration

14 CFR Part 95

[Docket No. 30289; Amdt. No. 433]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en routes authorized IFR altitude is prescribed. This regulatory action is needed because of changes occurring in the National Airspace System. These changes are designed to provide for the safe and efficient use of the navigable airspace under instrument conditions in the affected areas.

EFFECTIVE DATE: 0901 UTC, February 21, 2002.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: PO Box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on January 11, 2002.
James J. Ballough,
Director, Flight Standards Service.

Adoption of the Amendment

Accordingly, pursuant to the authority delegated to me by the Administrator, part 95 of the Federal Aviation Regulations (14 CFR part 95) is amended as follows effective at 0901 UTC:

PART 95—[AMENDED]

1. The authority citation for part 95 continues to read as follows:

Authority: 49 U.S.C. 106(g), 40103, 40106, 40113, 40114, 40120, 44502, 44514, 44719, 44721.

§§ 95.48, 95.6001, 95.6159, 95.6437, 95.6441, 95.6450, 95.614, and 95.6538 [Amended]

2. Part 95 is amended to read as follows:

Revisions to IFR Altitudes and Changeover Points
[Amendment 433, Effective Date: February 21, 2002]
From | To | MEA
Colored Federal Airways
§ 95.48 Green Federal Airway 8 is Amended to Read in Part
Campbell Lake, AK NDB | Glennallen, AK NDB | 10000
Atlantic Routes
Atlantic Routes—A315 is Amended to Read in Part
Jayee, BS FIX | *Hodgy, BS FIX | 7,000
*16500—MRA
Atlantic Routes—A555 is Amended to Read in Part
Rajay, BS FIX | Prune, BS FIX | 4,000
Prune, BS FIX | Nassau, BS VOR/DME | 2,000
Nassau, BS VOR/DME | Lepas, BS FIX | *3000
*1500—MOCA
Lepas, BS FIX | Bosar, BS FIX | *3000
*1300—MOCA
Atlantic Routes—B503 is Amended to Read in Part
NAssua, BS VOR/DME | *Hodgy, BS FIX | 7000
*16500—MRA
Hodgy, BS FIX | Enamo, OA FIX | 6000
Atlantic Routes—G437 is Amended to Read in Part
Mapyl, OA FIX | Elbow, BS FIX | 31000
Elbow, BS FIX | Ingra, BS FIX | 8000
Ingra, BS FIX | Nassau, BS VOR/DME | 2000
Nassau, BS VOR/DME | Welks, BS FIX | 2000
Welks, BS FIX | Brono, BS FIX | 2000
Brono, BS FIX | *Jayee, BS FIX | 5000
*14000—MRA
Bahamas Routes
Bahama Routes—022V is Amended to Read in Part
Carey, BS FIX | Majur, BS FIX | 2000
Majur, BS FIX | Nassau, BS VOR/DME | *2000
*1500—MOCA
Bahama Routes—049V is Amended to Read in Part
Nassau, BS VOR/DME | Tinky, BS FIX | 4000
Bahama Routes—053V is Amended to Read in Part
Prune, BS FIX | Nassau, BS VOR/DME | 2000
Nassaue, BS VOR/DME | Guava, BS FIX | 3000
Bahama Routes—054V is Amended to Read in Part
Carey, BS FIX | Majur, BS FIX | 2,000
Majur, BS FIX | Nassau, BS VOR/DME | *2,000
*1500—MOCA
Bahama Routes—055V is Amended to Read in Part
Prune, BS FIX | Nassau, BS VOR/DME | 2,000
Nassau, BS VOR/DME | Burrl, BS FIX | *3000
*1500—MOCA
Burrl, BS FIX | Seaan, BS FIX | *3000
*1500—MOCA
Seaan, BS FIX | Burgo, BS FIX | *16000
*1500—MOCA
Bahama Routes—057V is Amended to Read in Part
Carey, BS FIX | Majur, BS FIX | 2,000
Majur, BS FIX | Nassau, BS VOR/DME | *2,000
*1500—MOCA
Bahama Routes—058V is Amended to Read in Part
Nassau, BS VOR/DME | Kuray, BS FIX | *2000
*1500—MOCA
Kuray, BS FIX | *Melon, BS FIX | **2000
*8000—MRA
**1300—MOCA
Melon, BS FIX | Hankx, BS FIX | *2000
*1300—MOCA
Hankx, BS FIX | Barts, BS FIX | *4000
*1300—MOCA
Barts, BS FIX | Abaco, BS FIX | 10000
Bahama Routes—063V is Amended to Read in Part
Hankx, BS FIX | *Melon, BS FIX | **2,000
*8,000—MRA
**1,300—MOCA
Melon, BS FIX | Kuray, BS FIX | *2,000
*1300—MOCA
Kuray, BS FIX | Nassau, BS VOR/DME | *2,000
*1,500—MOCA
Bahamas Routes—065V is Amended to Read in Part
Nassau, BS VOR/DME | Peach, BS FIX | *2000
*1500—MOCA
Peach, BS FIX | *Sydny, BS FIX | **2000
*5000—MRA
**1300—MOCA
Sydny, BS FIX | Lauth, BS FIX | *5000
*1300—MOCA
Lauth, BS FIX | Freeport, BS VOR/DME | *2000
*1400—MOCA
Bahamas Routes—070V is Amended to Read in Part
Marsh Harbour, BS NDB | Nassau, BS VOR/DME | 6000
§ 95.6001 Victor Routes—U.S.
§ 95.6159 VOR Federal Airway 159 is Amended to Read in Part
Tuskegee, AL VOR/DME | Kentt, AL FIX | *2600
*1900—MOCA
§ 95.6437 VOR Federal Airway 437 is Amended to Read in Part
Stary, GA FIX | *Cathy, GA FIX | **5000
*5000—MRA
**1300—MOCA
§ 95.6441 VOR Federal Airway 441 is Amended to Read in Part
Stary, GA FIX | *Cathy, GA FIX | **5000
*5000—MRA
**1300—MOCA
§ 95.6450 VOR Federal Airway 450 is Amended to Read in Part
Muskegon, MI VORTAC | Flint, MI VORTAC | *3000
*2400—MOCA
§ 95.6514 VOR Federal Airway 514 is Amended to Read in Part
*Twentynine Palms, CA VORTAC | Goffs, CA VORTAC | **12000
*10200—MCA Twentynine Palms, CA VORTAC, NE BND
**7600—MOCA
§ 95.6538 VOR Federal Airway 538 is Amended to Read in Part
*Twentynine Palms, CA VORTAC | Goffs, CA VORTAC | **12000
*10200—MCA Twentynine Palms, CA VORTAC, NE BND
**7600—MOCA

[FR Doc. 02-1376 Filed 1-18-02; 8:45 am]

BILLING CODE 4910-13-M